DEPARTMENT OF COMMERCE

National Oceanic and Atmospheric Administration

RIN 0648-XD24

General Advisory Committee to the U.S. Section to the Inter-American Tropical Tuna Commission (IATTC); Meeting Announcement

AGENCY: National Marine Fisheries Service (NMFS), National Oceanic and Atmospheric Administration (NOAA), Commerce.

ACTION: Notice of public meeting.

SUMMARY: NMFS announces the meeting of the General Advisory Committee to the U.S. Section to the Inter-American Tropical Tuna Commission (IATTC) on November 2, 2007.

DATES: The meeting of the General Advisory Committee will be held on November 2, 2007, from 9 a.m. to 5 p.m. (or until business is concluded), Pacific time. Meeting topics can be found in the SUPPLEMENTARY INFORMATION section of this notice.

ADDRESSES: The meeting will be held via video conference at NMFS, Southwest Regional Office, 501 West Ocean Boulevard, Suite 4200, Long Beach, CA 90803-4213, and at the NMFS Southwest Fisheries Science Center, 8604 La Jolla Shores Drive, Large Conference Room, La Jolla, CA 92037-1508.

FOR FURTHER INFORMATION CONTACT: Allison Routt at (562)980-4019 or (562) 980-4030.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

Meeting Topics

The General Advisory Committee to the U.S. Section to the IATTC will meet to receive and discuss information on: (1) 2007 IATTC activities; (2) status of the stocks and status of the fishery in 2007; (3) recent and upcoming meetings of the IATTC and its working groups; (4) conservation and management measures for yellowfin and bigeye tuna for 2008 and beyond; (5) measures to be taken in cases of noncompliance with the IATTC's conservation and management measures; (6) management of fishing capacity; (7) IATTC cooperation with other regional fishery management organizations; (8) Magnuson-Stevens Fishery Conservation and Management Act reauthorization; (9) Advisory Committee operational issues; and (10) ther issues.

Special Accommodations

The meeting location is physically accessible to people with disabilities. Requests for sign language interpretation or other auxiliary aids should be directed to Allison Routt at (562) 980-4019 or (562) 980-4030 by October 26, 2007.

Dated: October 5, 2007.
Emily H. Menashes,
Acting Director, Office of Sustainable Fisheries, National Marine Fisheries Service.

[FR Doc. E7-20172 Filed 10-11-07; 8:45 am]

BILLING CODE 3510-22-S